DEPARTMENT OF THE INTERIOR

Fish and Wildlife Service

Proposed Low Effect Habitat Conservation Plan for the Bellota Landslide Repair and Shorecliffs Mobile Home Neighborhood Expansion, City of San Clemente, County of Orange, CA

AGENCY: Fish and Wildlife Service, Interior.

ACTION: Notice of availability.

SUMMARY: Seaview Repair LLC (applicant) has applied to the U.S. Fish and Wildlife Service (Service) for a 10-year incidental take permit for one covered species pursuant to section 10(a)(1)(B) of the Endangered Species Act of 1973, as amended (Act). The application addresses the potential for “take” of the threatened coastal California gnatcatcher (Polioptila californica californica, “gnatcatcher”) associated with the proposed landslide remediation project in the City of San Clemente, Orange County, California. A conservation program to minimize and mitigate for the project activities would be implemented as described in the proposed Bellota Landslide Repair and Shorecliffs Mobile Home Neighborhood Expansion Low Effect Habitat Conservation Plan (proposed HCP), which would be implemented by the applicant.

We are requesting comments on the permit application and on the preliminary determination that the proposed HCP qualifies as a “Low-effect” Habitat Conservation Plan, eligible for a categorical exclusion under the National Environmental Policy Act (NEPA) of 1969, as amended. The basis for this determination is discussed in the Environmental Action Statement (EAS) and the associated Low Effect Screening Form, which are also available for public review.

DATES: Written comments should be received on or before October 9, 2007.

ADDRESSES: Comments should be addressed to the Field Supervisor, Fish and Wildlife Service, Carlsbad Fish and Wildlife Office, 6010 Hidden Valley Road, Carlsbad, California 92011. Written comments may be sent by facsimile to (760) 918-0638.

FOR FURTHER INFORMATION CONTACT: Ms. Karen Goebel, Assistant Field Supervisor, Carlsbad Fish and Wildlife Office (see ADDRESSES); telephone: (760) 431-9440.

SUPPLEMENTARY INFORMATION:

Availability of Documents

Individuals wishing copies of the application, proposed HCP, and EAS should immediately contact the Service by telephone at (760) 431-9440 or by letter to the Carlsbad Fish and Wildlife Office. Copies of the proposed HCP and EAS also are available for public inspection during regular business hours at the Carlsbad Fish and Wildlife Office [see ADDRESSES].

Background

Section 9 of the Act and its implementing Federal regulations prohibit the take of animal species listed as endangered or threatened. Take is defined under the Act as to harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32.

The applicant is seeking a permit for take of the coastal California gnatcatcher during the life of the permit.

The applicant proposes to repair a landslide within a 16.33-acre project site that occurred on a slope adjacent to Via Bellota in the City of San Clemente, California. The proposed landslide remediation would involve remedial grading and construction of a landslide buttress at the westerly end of the canyon to stabilize the slide area. The slope would be graded and stabilized with shear pins every 10 feet. A collapsed underground stormdrain pipe that currently extends through the canyon bottom would be replaced to minimize the risk of pipe failures that could result in soil saturation and additional slope instability. An additional slope failure at the southwest end of the proposed landslide repair would be graded, excavated, filled, compacted and have hydroaugers (horizontal drains) installed which would outlet to the stormdrain being constructed for the landslide repair. Construction of a gunite terrace and down drains, which would outlet at the bottom of the slope, would occur on the surface of the finished slope. The repair of this slope failure would be concurrent with the stabilization of the landslide. Additionally, the proposed project would include the construction and sale of 20 graded lots within the Shorecliffs Mobile Home Park.

The applicant proposes to minimize and mitigate the effects to the gnatcatcher associated with the covered activities by fully implementing the HCP. The purpose of the proposed HCP's conservation program is to promote the biological conservation of the gnatcatcher. The HCP includes measures to minimize impacts to gnatcatcher by scheduling vegetation removal outside of the breeding season (February 15 to August 15). The project may result in take of one (1) pair of gnatcatchers and will permanently impact 5.36 acres of coastal sage scrub (CSS) and temporarily impact 6.71 acres of CSS. The applicant proposes to mitigate impacts to the gnatcatcher by revegetating 8.01 acres of the disturbed CSS onsite and restoring 9.42 acres of CSS offsite.

The Proposed Action consists of the issuance of an incidental take permit and implementation of the proposed HCP, which includes measures to minimize and mitigate impacts of the project on the gnatcatcher. Three alternatives to the taking of the listed species under the Proposed Action are considered in the proposed HCP. Under the No Action Alternative, no permit would be issued, and no construction or conservation would occur. This alternative would not comply with the settlement agreement to repair the landslide. The Offsite Alternative is not feasible because the proposed project involves an existing landslide which occurs within the proposed project site. A Reduce Project Alternative is also not feasible because the proposed project represents the minimum grading and construction footprint necessary to reconstruct the slope and permanently stabilize the slide.

The Service has made a preliminary determination that approval of the proposed HCP qualifies as a categorical exclusion under NEPA, as provided by the Department of the Interior Manual (516 DM8) and as a “low-effect” plan as defined by the Habitat Conservation Planning Handbook (November 1996). Determination of Low-effect Habitat Conservation Plans is based on the following three criteria: (1) Implementation of the proposed HCP would result in minor or negligible effects on federally listed, proposed, and candidate species and their habitats; (2) Implementation of the proposed HCP would result in minor or negligible effects on other environmental values or resources; and (3) Impacts of the proposed HCP, considered together with the impacts of other past, present and reasonably foreseeable similarly situated projects, would not result, over time, in cumulative effects to environmental values or resources which would be considered significant.

Based upon this preliminary determination, we do not intend to prepare further NEPA documentation. We will consider public comments in making the final determination on whether to prepare such additional documentation.

Before including your address, phone number, e-mail address, or other personal identifying information in your comment, you should be aware that your entire comment—including your personal identifying information—may be made publicly available at any time. While you can ask us in your comment to withhold your personal identifying information from public review, we cannot guarantee that we will be able to do so.

This notice is provided pursuant to section 10(c) of the Act. We will evaluate the permit application, the proposed HCP, and comments submitted thereon to determine whether the application meets the requirements of section 10(a) of the Act. If the requirements are met, we will issue a permit to Seaview Repair LLC for the incidental take of the coastal California gnatcatcher from landslide remediation in the City of San Clemente, Orange County, California.

Dated: August 30, 2007.
Jim A. Bartel,
Field Supervisor, Carlsbad Fish and Wildlife Office, Carlsbad, California.

[FR Doc. E7-17592 Filed 9-5-07; 8:45 am]

BILLING CODE 4310-55-P